DEPARTMENT OF ENERGY

International Energy Agency Meeting

AGENCY: Department of Energy.

ACTION: Notice of meeting.

SUMMARY: A meeting involving members of the Industry Advisory Board (IAB) to the International Energy Agency (IEA) in connection with the IEA's Emergency Disruption Simulation Exercise (ERE6) will be held on November 26-28, 2012, at the headquarters of the IEA, 9, rue de la Fédération 75015 Paris, France, and in the UIC Building, 16 rue Jean Rey, 75015 Paris, France. The purpose of this notice is to permit participation in ERE6 by U.S. company members of the IAB.

DATES: November 26-28, 2012.

ADDRESSES: 9, rue de la Fédération, Paris, France and 16, rue Jean Rey, Paris.

FOR FURTHER INFORMATION CONTACT: Diana D. Clark, Assistant General for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meeting is provided:

The ERE6 sessions will be held from 2:00 p.m.-5:30 p.m. on November 26, from 9:00 a.m.-5:30 p.m. on November 27, and from 9:00 a.m.-1:00 p.m. on November 28. The purpose of ERE6 is to train IEA Government delegates in the use of IEA emergency response procedures by reacting to a hypothetical oil supply disruption scenario.

The agenda for ERE6 is under the control of the IEA. ERE6 will involve break-out groups, the constitution of which is under the control of the IEA. The IEA anticipates that individual break-out groups will not include multiple IAB or IEA Reporting Company representatives that would qualify them as separate “meetings” within the meaning of the Voluntary Agreement and Plan of Action to Implement the International Energy Program. It is expected that the IEA will adopt the following agenda:

I. Training Session for New SEQ Participants and Selected IEA non-Member Countries

IEA Headquarters, 9, rue de la Fédération, 75015 Paris

November 26, 2012, beginning at 2:00 p.m.

1. Welcome to the IEA

2. IEA Emergency Response Policies, Market Assessment, Industry Perspective

3. IEA Oil Data Systems and Emergency Data Collection

4. Media Perspective

5. Introduction of ERE6 Disruption Simulation Exercise

II. Disruption Simulation Exercise

Union Internationale des Chemins de Fer,

16 rue Jean Rey, 75015 Paris

November 27-28, 2012, beginning each day at 9:00 a.m.

Day 1

1. Welcome and Introduction (plenary)

2. Simulation (breakout groups)

3. Discussion (plenary)

4. Simulation (breakout groups)

5. Discussion (pleanary)

Day 2

6. Introduction (plenary)

7. Simulation (breakout groups)

8. Discussion (plenary)

9. Simulation (breakout groups)

10. Conclusion and Wrap-up (plenary)

As provided in section 252(c)(1)(A)(ii) of the Energy Policy and Conservation Act (42 U.S.C. 6272(c)(1)(A)(ii)), the meeting of the IAB is open to representatives of members of the IAB and their counsel; representatives of members of the IEA's Standing Group on Emergency Questions (SEQ) and the IEA's Standing Group on the Oil Markets (SOM); representatives of the Departments of Energy, Justice, and State, the Federal Trade Commission, the General Accounting Office, Committees of Congress, the IEA, and the European Commission; and invitees of the IAB, the SEQ, the SOM, or the IEA.

Issued in Washington, DC, November 14, 2012.
Diana D. Clark,
Assistant General Counsel for International and National Security Programs.

[FR Doc. 2012-28178 Filed 11-19-12; 8:45 am]

BILLING CODE 6450-01-P